DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 65 FR 70358-9, dated November 22, 2000).

This notice reflects the functional changes in the Division of Vaccine Injury Compensation (RP9), Bureau of Health Professions (RP).

Delete the functional statement for the Division of Vaccine Injury Compensation in its entirety and replace with the following:

The Division of Vaccine Injury Compensation (RP9) (DVIC), on behalf of the Secretary of Health and Human Services (HHS), administers all statutory authorities related to the operation of the National Vaccine Injury Compensation Program (VICP) by the (1) evaluation of petitions for compensation filed under the VICP through medical review and assessment of compensability for all complete claims; (2) processing of awards for compensation made under the VICP; (3) promulgation of regulations to revise the Vaccine Injury Table; (4) provision of professional and administrative support to the Advisory Commission on Childhood Vaccines (ACCV); (5) development and maintenance of all automated information systems necessary for program implementation; (6) provision and dissemination of program information; (7) promotion of safer childhood vaccines; and (8) maintains a working relationship with other Federal and private sector partners in the administration and operation of the VICP.

Delegations of Authority

All delegations and redelegations of authority which were in effect immediately prior to the effective date hereof have been continued in effect in them or their successors pending further redelegations.

This reorganization is effective upon date of signature.

Dated: January 17, 2001.
Claude Earl Fox,
Administrator.

[FR Doc. 01-2586 Filed 1-30-01; 8:45 am]

BILLING CODE 4160-15-P